DEPARTMENT OF COMMERCE

International Trade Administration

[A-549-807]

Notice of Initiation and Preliminary Results of Changed-Circumstances Antidumping Duty Review: Certain Carbon Steel Butt-Weld Pipe Fittings From Thailand

AGENCY: Import Administration, International Trade Administration, Department of Commerce.

SUMMARY: The Department of Commerce (the Department) received a request from Awaji Materia (Thailand) Co., Ltd. (AMT), for initiation of a changed-circumstances review of the antidumping duty order on certain carbon steel butt-weld pipe fittings (pipe fittings) from Thailand. After reviewing this request, we preliminarily determine that AMT is the successor-in-interest to Awaji Sangyo (Thailand) Co., Ltd. (AST), and, as a result, should be accorded the same treatment previously accorded to AST with respect to the antidumping duty order on pipe fittings from Thailand. Interested parties are invited to comment on these preliminary results.

DATES: Effective Date: January 14, 2009.

FOR FURTHER INFORMATION CONTACT: Edythe Artman or Minoo Hatten, AD/CVD Operations, Office 5, Import Administration, International Trade Administration, U.S. Department of Commerce, 14th Street and Constitution Avenue, NW., Washington, DC 20230; telephone: (202) 482-3931 and (202) 482-1690, respectively.

SUPPLEMENTARY INFORMATION:

Background

On July 6, 1992, the Department published an antidumping duty order on pipe fittings from Thailand in which it stated that AST was excluded from the order due to its de minimis margin in the less-than-fair-value investigation. See Antidumping Duty Order; Certain Carbon Steel Butt-Weld Pipe Fittings From Thailand, 57 FR 29702 (July 6, 1992); see also Final Determination of Sales at Less Than Fair Value: Certain Carbon Steel Butt-Weld Pipe Fittings from Thailand, 57 FR 21065 (May 18, 1992).¹ On November 18, 2008, the Department received a request for a changed-circumstances review of this order from AMT to determine if, for purposes of the antidumping law, AMT is the successor-in-interest to AST. On December 4, 2008, we received a letter from Weldbend Corporation, a domestic producer of pipe fittings, in which it expressed support for AMT's request.

¹ As observed in the November 18, 2008 request from AMT, exports of subject merchandise of AST were also the subject of a subsequent investigation in which the International Trade Commission concluded that the exports did not result in the material injury or threat of material injury to the U.S. industry or in material retardation of the establishment of an industry in the United States. See Certain Carbon Steel Butt-Weld Pipe Fittings From France, India, Israel, Malaysia, The Republic of Korea, Thailand, The United Kingdom, and Venezuela, 60 FR 18611 (April 12, 1995).

Scope of the Order

The scope of the order covers certain pipe fittings from Thailand. They are defined as carbon steel butt-weld pipe fittings, having an inside diameter of less than 14 inches, imported in either finished or unfinished form. These formed or forged pipe fittings are used to join sections in piping systems where conditions require permanent, welded connections, as distinguished from fittings based on other fastening methods (e.g., threaded, grooved, or bolted fittings). These imports are currently classifiable under subheading 7307.93.30 of the Harmonized Tariff Schedule of the United States (HTSUS). Although the HTSUS subheadings are provided for convenience and customs purposes, the written description remains dispositive as to the scope of the order.

Initiation and Preliminary Results of Changed-Circumstances Review

Pursuant to section 751(b)(1) of the Tariff Act of 1930, as amended (the Act), and 19 CFR 351.216, the Department will conduct a changed-circumstances review upon receipt of information concerning, or a request from an interested party for review of, an antidumping duty order which shows changed circumstances sufficient to warrant a review of the order. The Department finds that the documentation that AMT submitted with its November 18, 2008 request constitutes sufficient evidence of changed circumstances to warrant such a review. Thus, in accordance with section 751(b) of the Act, the Department is initiating a changed-circumstances review to determine whether AMT is the successor-in-interest to AST for purposes of determining antidumping duty liability with respect to imports of pipe fittings from Thailand.

Furthermore, 19 CFR 351.221(c)(3)(ii) permits the Department to combine the notice of initiation of a changed-circumstances review and the notice of preliminary results for the review in a single notice if the Department concludes that expedited action is warranted. As explained below, we find that the evidence provided by AMT is sufficient to preliminarily determine that this company is the successor-in-interest to AST.

In making a successor-in-interest determination, the Department examines several factors including but not limited to changes in the following: (1) Management; (2) production facilities; (3) supplier relationships; and (4) customer base. See, e.g., Notice of Final Results of Changed Circumstances Antidumping Duty Administrative Review: Polychloroprene Rubber From Japan, 67 FR 58 (January 2, 2002), and Brass Sheet and Strip from Canada: Final Results of Antidumping Duty Administrative Review, 57 FR 20460, 20461 (May 13, 1992). While no single factor or combination of factors will necessarily provide a dispositive indication of a successor-in-interest relationship, generally the Department will consider the new company to be the successor to the previous company if the new company's resulting operation is not materially dissimilar to that of its predecessor. See, e.g., Fresh and Chilled Atlantic Salmon from Norway; Final Results of Changed Circumstances Antidumping Duty Administrative Review, 64 FR 9979 (March 1, 1999) (Salmon from Norway), and Industrial Phosphoric Acid from Israel; Final Results of Changed Circumstances Review, 59 FR 6944, 6945 (February 14, 1994). Thus, if the record evidence demonstrates that, with respect to the production and sale of the subject merchandise, the new company operates as the same business entity as the predecessor company, the Department may assign the new company the cash-deposit rate of its predecessor. See, e.g., Salmon from Norway, 64 FR at 9980.

In accordance with 19 CFR 351.221(3), we preliminarily determine that AMT is the successor-in-interest to AST. In its November 18, 2008 filing, AMT provided evidence supporting its claim to be the successor-in-interest to AST. Specifically, it provided the following documentation:

(1) A declaration of the executive vice president of AMT in which the official states that the name change of the company from AST to AMT did not result in changes in management, production, facilities, supplier relationships or changes to the customer base;

(2) Certifications of incorporation of both AST and AMT filed with the Thai Ministry of Commerce;

(3) Copies of tax identification cards for AST and AMT that show the companies were assigned the same taxpayer identification numbers;

(4) A statement from a Thai bank confirming the change of the company account name from AST to AMT in August 2006;

(5) Company outlines dated before and after the name change that demonstrate no changes in management or facilities between the two points in time;

(6) A notice published by the European Union Commission recognizing the name change from AST to AMT for antidumping-duty purposes; and

(7) Copies of letters AST sent to customers announcing the name change.

In summary, AMT has presented evidence to establish a prima facie case of its successorship status. AST's name change to AMT has not changed the operations of the company in a meaningful way. AMT's management, production facilities, supplier relationships, and customer base are substantially unchanged from those of AST. The record evidence demonstrates that the new entity essentially operates in the same manner as the predecessor company. Consequently, we preliminarily determine that AMT should be assigned the same antidumping-duty treatment as AST, i.e., exclusion from the order. See Antidumping Duty Order; Certain Carbon Steel Butt-Weld Pipe Fittings From Thailand, 57 FR 29702 (July 6, 1992).

Public Comment

Interested parties are invited to comment on these preliminary results. Written comments may be submitted no later than 14 days after the date of publication of these preliminary results. Rebuttals to written comments, limited to issues raised in such comments, may be filed no later than 21 days after the date of publication. The Department will issue the final results of this changed-circumstances review, which will include the results of its analysis raised in any such written comments, no later than 270 days after the date on which this review was initiated or within 45 days if all parties agree to our preliminary results. See 19 CFR 351.216(e).

This notice is published in accordance with sections 751(b)(1) and 777(i) of the Act and 19 CFR 351.216 and 351.221.

Ronald K. Lorentzen,
Acting Assistant Secretary for Import Administration.

[FR Doc. E9-632 Filed 1-13-09; 8:45 am]

BILLING CODE 3510-DS-P